NATIONAL SCIENCE FOUNDATION

Proposal Review Panel for Materials Research; Notice of Meeting

In accordance with the Federal Advisory Committee Act (Pub., L. 92-463 as amended), the National Science Foundation (NSF) announces the following meeting:

NAME AND COMMITTEE CODE: Proposal Review Panel for Materials Research—Materials Research Science and Engineering Center Site Visit, University of Colorado (V181338) #1203

DATE AND TIME:

April 11, 2018; 7 p.m.-9 p.m.

April 12, 2018; 7:30 a.m.-8:30 p.m.

April 13, 2018; 8:00 a.m.-3:15 p.m.

PLACE: University of Colorado, Regent Drive, Boulder, CO 80309

TYPE OF MEETING: Part-Open

CONTACT PERSON: Dr. Daniele Finotello, Program Director, Materials Research Science and Engineering Center, MRSEC. Division of Materials Research, Room E 9475, National Science Foundation, 2415 Eisenhower Avenue, Alexandria, VA 22314; Telephone (703) 292-4676.

PURPOSE OF MEETING: NSF site visit to provide advice and recommendations concerning further NSF support for the Center.

AGENDA:

Start | End |
Day 1 | Wednesday, April 11, 2018
7:00 p.m. | 9:00 p.m. | Briefing of Site Visit Team by NSF (Closed).
Day 2 | Thursday, April 12, 2018
7:30 a.m. | 8:15 a.m. | Continental Breakfast with MRSEC Participants.
8:15 a.m. | 8:20 a.m. | Break and, If Needed, Equipment Setup/Team Introduction.
8:20 a.m. | 9:10 a.m. | Director's Overview.
9:10 a.m. | 9:20 a.m. | Discussion
9:20 a.m. | 10:00 a.m. | IRG-1.
10:00 a.m. | 10:10 a.m. | Discussion.
10:10 a.m. | 10:20 a.m. | Break.
10:20 a.m. | 11:00 a.m. | IRG-2.
11:00 a.m. | 11:10 a.m. | Discussion.
11:10 a.m. | 11:35 a.m. | Seeds.
11:35 a.m. | 11:40 a.m. | Discussion.
11:40 a.m. | 12:00 p.m. | Executive Session for Site Visit Team and NSF only (Closed).
12:00 p.m. | 1:00 p.m. | Lunch—Site Visit Team, NSF and Students/Post Docs.
1:00 p.m. | 1:50 p.m. | Education and Outreach, Diversity Plan.
1:50 p.m. | 2:00 p.m. | Discussion.
2:00 p.m. | 2:25 p.m. | Industrial Outreach and Other Collaborations.
2:25 p.m. | 2:30 p.m. | Discussion.
2:30 p.m. | 3:30 p.m. | Facilities Overview and Lab Tour.
3:30 p.m. | 5:00 p.m. | Poster Session.
5:00 p.m. | 6:30 p.m. | Executive Session of Site Visit Team and NSF only: Prepare Questions (Closed).
6:30 p.m. | 6:45 p.m. | Site Visit Team Meets with MRSEC Director and Executive Committee.
7:00 p.m. | 8:30 p.m. | Dinner Meeting for Site Visit Team and NSF only.
Day 3 | Friday, April 13, 2018
8:00a.m. | 9:00 a.m. | Executive Session—Director's Response/Continental Breakfast.
9:00 a.m. | 9:30 a.m. | Executive Session of Site Visit Team (Closed).
9:30 a.m. | 9:50 a.m. | Executive Session—Meeting with University Administrators.
9:50 a.m. | 10:30 a.m. | Executive Session of Site Visit Team (Closed).
10:30 a.m. | 10:50 a.m. | Discussion with MRSEC Director and Executive Committee (if needed).
10:50 a.m. | 3:00 p.m. | Executive Session of Site Visit Team—Report Writing (working lunch).
3:00 p.m. | 3:15 p.m. | Debriefing with MRSEC Director and Executive Committee.
3:15 p.m. |  | End of the Site Visit.

REASON FOR CLOSING: The work being reviewed during the site visit include information of a proprietary or confidential nature, including technical information; financial data, such as salaries and personal information concerning individuals associated with the proposals. These matters are exempt under 5 U.S.C. 552b(c), (4) and (6) of the Government in the Sunshine Act.

Dated: March 12, 2018.
Crystal Robinson,
Committee Management Officer.

[FR Doc. 2018-05260 Filed 3-14-18; 8:45 am]

BILLING CODE 7555-01-P